DEPARTMENT OF COMMERCE

National Oceanic and Atmospheric Administration

[RTID 0648-XB949]

Marine Mammals and Endangered Species

AGENCY: National Marine Fisheries Service (NMFS), National Oceanic and Atmospheric Administration (NOAA), Commerce.

ACTION: Notice; issuance of permits, permit amendments, and permit modifications.

SUMMARY: Notice is hereby given that permits, permit amendments, and permit modifications have been issued to the following entities under the Marine Mammal Protection Act (MMPA) and the Endangered Species Act (ESA), as applicable.

ADDRESSES: The permits and related documents are available for review upon written request via email to NMFS.Pr1Comments@noaa.gov.

FOR FURTHER INFORMATION CONTACT: Erin Markin, Ph.D. (Permit No. 20528-03), Shasta McClenahan, Ph.D. (Permit No. 20523-01), and Amy Hapeman (Permit No. 25498-01); at (301) 427-8401.

SUPPLEMENTARY INFORMATION: Notices were published in the Federal Register on the dates listed below that requests for a permit, permit amendment, or permit modification had been submitted by the below-named applicants. To locate the Federal Register notice that announced our receipt of the application and a complete description of the activities, go to www.federalregister.gov and search on the permit number provided in Table 1 below.

Table 1—Issued Permits, Permit Amendments, and Permit Modifications
Permit No. | RTID | Applicant | Previous Federal Register notice | Issuance date
20523-01 | 0648-XF455 | National Museum of Natural History, P.O. Box 37012, Washington, DC 20013 (Responsible Party: Kirk Johnson, Ph.D.) | 82 FR 39776; August 22, 2017 | March 23, 2022.
20528-03 | 0648-XB500 | South Carolina Department of Natural Resources, 217 Fort Johnson Road, Charleston, SC 29412 (Responsible Party: Bill Post) | 86 FR 56692; October 12, 2021 | February 28, 2022.
25498-01 | 0648-XB629 | Titan Productions, Limited, 51-55 Whiteladies Road Bristol, BS8 2LY, United Kingdom (Responsible Party: Lucy Meadows) | 86 FR 71624; December 17, 2021 | March 17, 2022.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in Section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: April 11, 2022.
Julia M. Harrison,
Chief, Permits and Conservation Division, Office of Protected Resources, National Marine Fisheries Service.

[FR Doc. 2022-08024 Filed 4-13-22; 8:45 am]

BILLING CODE 3510-22-P